DEPARTMENT OF STATE

[Public Notice: 10512]

Certification Related to the Central Government of Haiti Under the Department of State, Foreign Operations, and Related Programs Appropriations Act, 2018

Pursuant to section 7045(c) (1) of the Department of State, Foreign Operations, and Related Programs Appropriations Act, 2018 (Div. K, Pub. L. 115-141), I hereby certify that the central Government of Haiti is taking effective steps, which are in addition to steps taken since the certification and report submitted on August 3, 2017, if applicable, to:

• Strengthen the rule of law in Haiti, including by selecting judges in a transparent manner based on merit; reducing pre-trial detention; respecting the independence of the judiciary; and improving governance by implementing reforms to increase transparency and accountability, including through the penal and criminal codes;

• Combat corruption, including by implementing the anti-corruption law enacted in 2014 and prosecuting corrupt officials;

• Increase government revenues, including by implementing tax reforms, and increase expenditures on public services; and

• Resolve commercial disputes between United States entities and the Government of Haiti.

Dated: August 13, 2018.
Michael Pompeo,
Secretary of State.

[FR Doc. 2018-17920 Filed 8-17-18; 8:45 am]

BILLING CODE 4710-29-P